DEPARTMENT OF DEFENSE

Department of the Army; Corps of Engineers

Intent to Prepare a Draft Supplemental Environmental Impact Statement to Evaluate Construction of Authorized Improvements to the Federal Gulfport Harbor Navigation Project in Harrison County, MS

AGENCY: Department of the Army, U.S. Army Corps of Engineers, DoD.

ACTION: Notice of availability.

SUMMARY: This notice of availability announces the public release of the Draft Supplemental Environmental Impact Statement (DSEIS) to evaluate construction of authorized improvements to the Federal Gulfport Harbor Navigation Project in Harrison County, MS. The Mobile District, U.S. Army Corps of Engineers (Corps) published in the Federal Register, March 31, 2006, (71 FR 16294) a Notice of Intent to Prepare a DSEIS to address the potential impacts associated with construction of authorized improvements to the Federal Gulfport Harbor Navigation Project in Harrison County, MS. The DSEIS was used as a basis to ensure compliance with the National Environmental Policy Act (NEPA) and for evaluating the following two alternative plans: “No Action” and widening to the authorized project dimensions. Gulfport Harbor is authorized to (a) a channel 38 feet deep by 400 feet wide and about 8 miles long across Ship Island Bar; (b) a channel 36 feet deep by 300 feet wide and about 12 miles long through Mississippi Sound; and (c) a stepped anchorage basin at Gulfport Harbor 32 to 36 feet deep by 1,120 feet wide and 2,640 feet long. The tentatively recommended alternative includes construction of the authorized project dimensions.

DATES: The public comment period for the DSEIS will extend through April 2, 2007.

ADDRESSES: To receive a copy of the DSEIS, or to submit comments, contact U.S. Army Corps of Engineers, Mobile District, Coastal Environment Team, P.O. Box 2288, Mobile, AL 36628-0001. A copy of the full document may also be viewed in the Mobile Public Library (Main Branch) or in the Mobile District.

FOR FURTHER INFORMATION CONTACT: Questions about the proposed action and the DSEIS should be addressed to Ms. Linda T. Brown, Coastal Environment Team, phone (251) 694-3786, Mobile District, U.S. Army Corps of Engineers, P.O. Box 2288, Mobile, AL 36628 or e-mail address: linda.t.brown@sam.usace.army.mil.

SUPPLEMENTARY INFORMATION: Public comments can be submitted through a variety of methods. Written comments may be submitted to the Corps by mail, facsimile, or electronic methods. Additional comments (written or oral) may be presented at the public hearing on March 8, 2007 at the 19th Street Community Center, 3319 19th Street, Gulfport, MS. Additional information on the public hearing will be mailed in a public notice to the agencies and public and announced in news releases.

Dated: January 31, 2007.
Kenneth P. Bradley,
Chief, Environment and Resources Branch.

[FR Doc. 07-585 Filed 2-8-07; 8:45 am]

BILLING CODE 3710-CR-M